DEPARTMENT OF ENERGY

Federal Energy Regulatory Commission

[Docket No. TM00-1-22-002]

Dominion Transmission, Inc; Notice of Proposed Changes in FERC Gas Tariff

June 29, 2000.

Take notice that on June 22, 2000, Dominion Transmission, Inc. (DTI), filed as part of its FERC Gas Tariff, Second Revised Volume No. 1, the following tariff sheets:

Effective November 1, 1999

Second Substitute Twenty-Fourth Revised Sheet No. 31

Second Substitute Fifty-Second Revised Sheet No. 32

Substitute Forty-Sixth Revised Sheet No. 33

Second Substitute Twenty-Third Revised Sheet No. 35

Effective January 1, 2000

Second Substitute Twenty-Sixth Revised Sheet No. 31

Third Substitute Twenty-Sixth Revised Sheet No. 31

Substitute Fifty-Third Revised Sheet No. 32

Effective February 1, 2000

Substitute Twenty-Seventh Revised Sheet No. 31

Substitute Twenty-Eighth Revised Sheet No. 31

Substitute Fifty-Fourth Revised Sheet No. 32

Substitute Fifty-Fifth Revised Sheet No. 32

Substitute Forty-Seventh Revised Sheet No. 33

Substitute Twenty-Fourth Revised Sheet No. 35

Effective May 1, 2000

Substitute Fifty-Sixth Revised Sheet No. 32

DTI states that the purpose of this filing is to comply with the Commission's order dated June 16, 2000 (June 16, 2000 Order) which accepted DTI's September 30, 1999 filing to revise its Transportation Cost Rate Adjustment (TCRA) with one exception. Specifically, the Commission ordered DTI to file revised TCRA rates, effective November 1, 1999, which reflect the allocation of unrecovered storage gas losses 74.5 percent to transportation services and 25.5 percent to storage services. DTI states that the revised tariff sheets fully comply with the June 16, 2000 Order.

DTI states that copies of its filing have been served upon DTI's customers and interested state commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17006 Filed 7-5-00; 8:45 am]

BILLING CODE 6717-01-M